DEPARTMENT OF TRANSPORTATION

Federal Aviation Administration

14 CFR Part 39

[Docket No. FAA-2008-1200; Directorate Identifier 2008-NM-178-AD; Amendment 39-15737; AD 2008-23-16]

RIN 2120-AA64

Airworthiness Directives; Bombardier Model CL-600-2B19 (Regional Jet Series 100 & 440) Airplanes

AGENCY: Federal Aviation Administration (FAA), Department of Transportation (DOT).

ACTION: Final rule; request for comments.

SUMMARY: The FAA is superseding an existing airworthiness directive (AD) that applies to certain Bombardier Model CL-600-2B19 (Regional Jet Series 100 & 440) airplanes. The existing AD currently requires inspecting to identify the wing anti-ice ducts (piccolo tubes) in the wing leading edge. For airplanes with affected piccolo tubes, the existing AD requires revising the airplane flight manual (AFM) to introduce new procedures for operation in icing conditions. The existing AD provides an optional implementation of repetitive inspections for cracks of affected piccolo tubes, and corrective actions if necessary, which terminates the operational limitations. The existing AD also provides an optional installation of certain new piccolo tubes, which terminates both the AFM revision and the inspections. This AD adds airplanes to the applicability, requires revising the AFM to introduce new procedures for operation in icing conditions, and requires inspecting to determine if certain anti-ice piccolo ducts are installed, and replacing or repairing the piccolo duct if necessary. This AD also provides an optional terminating action of replacing all affected piccolo ducts. This AD results from reports of failed piccolo tubes. We are issuing this AD to prevent cracked piccolo tubes, which could result in air leakage, a possible adverse effect on the anti-ice air distribution pattern and anti-ice capability without annunciation to the flight crew, and consequent reduced controllability of the airplane.

DATES: This AD becomes effective December 1, 2008.

The Director of the Federal Register approved the incorporation by reference of certain publications listed in the AD as of December 1, 2008.

On September 7, 2005 (70 FR 49164, August 23, 2005), the Director of the Federal Register approved the incorporation by reference of certain other publications listed in the AD.

We must receive any comments on this AD by December 15, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Bombardier, Inc., Canadair, Aerospace Group, P.O. Box 6087, Station Centre-ville, Montreal, Quebec H3C 3G9, Canada; telephone 514-855-8500; fax 514-855-8501; E-mail thd.crj@aero.bombardier.com; Internet http://www.bombardier.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Fabio Buttitta, Aerospace Engineer, New York Aircraft Certification Office, ANE-171, FAA, New York Aircraft Certification Office, 1600 Stewart Avenue, Suite 410, Westbury, New York 11590; telephone (516) 228-7303; fax (516) 794-5531.

SUPPLEMENTARY INFORMATION:

Discussion

On August 11, 2005, the FAA issued AD 2005-17-12, amendment 39-14223 (70 FR 49164, August 23, 2005). That AD applies to certain Bombardier Model CL-600-2B19 (Regional Jet Series 100 & 440) airplanes. That AD requires inspecting to identify the wing anti-ice ducts (piccolo tubes) in the wing leading edge. For airplanes with affected piccolo tubes, that AD requires revising the airplane flight manual (AFM) to introduce new procedures for operation in icing conditions. That AD provides an optional implementation of repetitive inspections for cracks of affected piccolo tubes, and corrective actions if necessary, which terminates the operational limitations. That AD also provides an optional installation of certain new piccolo tubes, which terminates both the AFM revision and the inspections. That AD resulted from reports of failed piccolo tubes. The actions specified in that AD are intended to prevent cracked piccolo tubes, which could result in air leakage, a possible adverse effect on the anti-ice air distribution pattern and anti-ice capability without annunciation to the flight crew, and consequent reduced controllability of the airplane.

Actions Since AD Was Issued

Since we issued AD 2005-17-12, we received a report that faulty piccolo tubes might have been installed in a number of leading edge assemblies built as spares, and whose current locations are not specifically known. These faulty parts may have been installed on airplanes affected by that AD. Faulty piccolo tubes could crack, which could result in air leakage, a possible adverse effect on the anti-ice air distribution pattern and anti-ice capability without annunciation to the flight crew, and consequent reduced controllability of the airplane.

Relevant Service Information

Bombardier has issued Canadair Temporary Revision RJ/155-6, dated September 17, 2008 (“the TR”), to the Canadair Regional Jet AFM, CSP A-012. The TR describes new procedures for operation in icing conditions and supersedes Canadair TR RJ/155, dated July 5, 2005 (which we referred to as the appropriate source of service information for doing the AFM revision required by AD 2005-17-12).

Bombardier has also issued Service Bulletin 601R-30-029, Revision B, dated August 29, 2005. We referred to Bombardier Service Bulletin 601R-30-029, Revision A, dated July 7, 2005, as the appropriate source of service information for doing certain actions required by AD 2005-17-12. Revision B contains the same procedures as Revision A but adds airplanes to the effectivity and removes certain other airplanes from the effectivity.

Bombardier has also issued Alert Service Bulletin A601R-30-032, dated September 18, 2008. This service bulletin supersedes Bombardier Service Bulletin 601R-30-029, Revision A, dated July 7, 2005. Bombardier Alert Service Bulletin A601R-30-032 describes procedures for inspecting to determine if certain anti-ice piccolo ducts are installed, and replacing or repairing the piccolo duct if necessary.

Accomplishing the actions specified in the service information is intended to adequately address the unsafe condition. Transport Canada Civil Aviation (TCCA) mandated the service information and issued Canadian airworthiness directive CF-2008-30, dated October 7, 2008 (referred to after this as “the MCAI”), to ensure the continued airworthiness of these airplanes in Canada. Canadian airworthiness directive CF-2008-30 supersedes Canadian airworthiness directive CF-2005-26R1, dated September 21, 2005, and adds airplanes to the applicability. We referred to Canadian airworthiness directive CF-2005-26, dated July 11, 2005, in our AD 2005-17-12.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined an unsafe condition exists and is likely to exist or develop on other products of the same type design.

Therefore, we are issuing this AD to supersede AD 2005-17-12. This new AD retains certain requirements of the existing AD. This AD also requires accomplishing the actions specified in the service information described previously, except as discussed under “Differences Between the AD and the Service Information.” This AD also adds airplanes to the applicability and removes certain other airplanes from the applicability.

Differences Between the AD and the Service Information

Where Bombardier Alert Service Bulletin A601R-30-032, dated September 18, 2008, specifies that Bombardier may be contacted for information regarding repair, this AD requires repair according to a method approved by either the Manager, New York ACO, or TCCA (or its delegated agent).

Interim Action

We consider this AD interim action. We are currently considering requiring the replacement of all piccolo ducts that have serial numbers identified in Part A, Paragraph 2.A., of the Accomplishment Instructions of Bombardier Alert Service Bulletin A601R-30-032, dated September 18, 2008, with piccolo ducts that do not have the affected serial numbers, which will constitute terminating action for the actions required by this AD. However, the planned compliance time for the replacement would allow enough time to provide notice and opportunity for prior public comment on the merits of the replacement.

FAA's Justification and Determination of the Effective Date

Because of our requirement to promote safe flight of civil aircraft and thus, the critical need to ensure proper functioning of the anti-ice systems during the upcoming winter season, and the short compliance time involved with this action, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-1200; Directorate Identifier 2008-NM-178-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14223 (70 FR 49164, August 23, 2005) and adding the following new AD:

2008-23-16 Bombardier, Inc. (Formerly Canadair): Docket No. FAA-2008-1200; Directorate Identifier 2008-NM-178-AD; Amendment 39-15737.

Effective Date

(a) This AD becomes effective December 1, 2008.

Affected ADs

(b) This AD supersedes AD 2005-17-12.

Applicability

(c) This AD applies to Bombardier Model CL-600-2B19 (Regional Jet Series 100 & 440) airplanes, certificated in any category; serial numbers (S/Ns) 7003 through 7067 inclusive, 7069 through 7990 inclusive, 8000 through 8076 inclusive, 8082, 8086, 8090 through 8092 inclusive, 8096, and 8097.

Unsafe Condition

(d) This AD results from reports of failed piccolo tubes. We are issuing this AD to prevent cracked piccolo tubes, which could result in air leakage, a possible adverse effect on the anti-ice air distribution pattern and anti-ice capability without annunciation to the flight crew, and consequent reduced controllability of the airplane.

Compliance

(e) You are responsible for having the actions required by this AD performed within the compliance times specified, unless the actions have already been done.

Restatement of Requirements of AD 2005-17-12

Identification of Affected Piccolo Tubes

(f) For airplanes having S/Ns 7013, 7017, 7037, 7046, 7059, 7076, 7105, 7127, 7151, 7157, 7163, 7174, 7179, 7203, 7204, 7228, 7271, 7347, 7362, 7378, 7417 through 7990 inclusive, 8000 through 8076 inclusive, 8082, 8086, 8090 through 8092 inclusive, 8096 and 8097: Before the airplane accumulates 3,000 total flight hours, or within 14 days after September 7, 2005 (the effective date of AD 2005-17-12), whichever occurs later, determine whether any affected piccolo tube is installed on the airplane. Affected piccolo tubes are identified in paragraph 1.A. of Bombardier Service Bulletin 601R-30-029, Revision A, dated July 7, 2005. Doing the action required by paragraph (p), (q), (r), or (w) of this AD terminates the requirements of this paragraph.

Revision to Airplane Flight Manual (AFM)

(g) For airplanes with an affected or unidentifiable piccolo tube found during the action required by paragraph (f) of this AD: Before the airplane accumulates 3,000 total flight hours, or within 14 days after September 7, 2005, whichever occurs later, revise the Operating Limitations and Abnormal Procedures sections of the Canadair Regional Jet AFM, CSP A-012, to include the information in Canadair Temporary Revision (TR) RJ/155, dated July 5, 2005, as specified in the TR. This may be done by inserting a copy of the TR into the AFM. This TR introduces new procedures for operation in icing conditions. Operate the airplane according to the limitations and procedures in the TR except as required by paragraph (n) of this AD. When this TR has been included in general revisions of the AFM, the general revisions may be inserted in the AFM, provided the relevant information in the general revision is identical to that in the TR. After the AFM revision required by paragraph (n) of this AD has been done, remove the AFM limitation specified in this paragraph.

Optional Inspections

(h) For airplanes with an affected or unidentifiable piccolo tube found during the action required by paragraph (f) of this AD: The operating limitations and abnormal procedures specified in Canadair TR RJ/155, dated July 5, 2005, as required by paragraph (g) of this AD, may be removed from the AFM, provided all requirements of this paragraph have been satisfied.

(1) A fluorescent dye penetrant inspection for cracks of the piccolo tubes is done and repeated thereafter within 2,000-flight-hour intervals in accordance with the Accomplishment Instructions of Bombardier Service Bulletin 601R-30-029, Revision A, dated July 7, 2005. An inspection done before September 7, 2005, in accordance with Bombardier Service Bulletin 601R-30-029, dated June 17, 2005, is acceptable for compliance with the requirements of paragraph (h)(1) of this AD. Doing the inspection required by paragraph (u) of this AD terminates the actions required by this paragraph.

(2) All applicable corrective actions are done as specified in paragraph (j) of this AD.

AFM Limitations Required for Exceeding Inspection Interval

(i) For airplanes having S/Ns 7013, 7017, 7037, 7046, 7059, 7076, 7105, 7127, 7151, 7157, 7163, 7174, 7179, 7203, 7204, 7228, 7271, 7347, 7362, 7378, 7417 through 7990 inclusive, 8000 through 8076 inclusive, 8082, 8086, 8090 through 8092 inclusive, 8096 and 8097: During any period in which the inspection interval exceeds 2,000 flight hours after the initial inspection specified in paragraph (h)(1) of this AD, the airplane must be operated under the limitations and abnormal procedures specified in paragraph (g) of this AD. Doing the action required by paragraph (p), (q), (r), or (w) of this AD terminates the requirements of this paragraph.

Corrective Action

(j) If any crack is found during any inspection required by paragraph (h) of this AD: Before further flight, do the actions specified in paragraph (j)(1), (j)(2), (j)(3), (j)(4), or (j)(5) of this AD, except as required by paragraph (k) of this AD.

(1) Replace the cracked piccolo tube, in accordance with the Accomplishment Instructions of Bombardier Service Bulletin 601R-30-029, Revision A, dated July 7, 2005, with a new piccolo tube that has the same part number as identified in paragraph 1.A. of Bombardier Service Bulletin 601R-30-029, Revision A, dated July 7, 2005, but that does not have a serial number listed in that paragraph.

(2) Replace the cracked piccolo tube, in accordance with the Accomplishment Instructions of Bombardier Service Bulletin 601R-30-029, Revision A, dated July 7, 2005, with a new piccolo tube that has a part number identified in the applicable Bombardier illustrated parts catalog but not identified in paragraph 1.A. of Bombardier Service Bulletin 601R-30-029, Revision A, dated July 7, 2005, or with a new piccolo tube identified in paragraph (l) of this AD.

(3) Replace the cracked piccolo tube, in accordance with the Accomplishment Instructions of Bombardier Service Bulletin 601R-30-029, Revision A, dated July 7, 2005, with a piccolo tube that has been inspected in accordance with the Accomplishment Instructions of Bombardier Service Bulletin 601R-30-029, Revision A, dated July 7, 2005, is not cracked, and has not accumulated any air time (hours' time-in-service) since inspection.

(4) Replace the cracked piccolo tube with a piccolo tube that has been repaired in accordance with a method approved by either the Manager, New York Aircraft Certification Office (ACO), ANE-172, FAA; or Transport Canada Civil Aviation (TCCA) (or its delegated agent); and has not accumulated any air time (hours time-in-service) since the repair.

(5) Reinstall the cracked piccolo tube and operate the airplane in accordance with a method approved by either the Manager, New York ACO, or TCCA (or its delegated agent). Operation in accordance with the provisions of Master Minimum Equipment List (MMEL) entry 30-12-03 is acceptable for compliance with the requirements of this paragraph.

Exception to Service Bulletin Procedures

(k) Where Bombardier Service Bulletin 601R-30-029, Revision A, dated July 7, 2005, specifies that Bombardier may be contacted for information regarding repair, this AD requires repair according to a method approved by either the Manager, New York ACO, or TCCA (or its delegated agent).

Optional Terminating Action for Paragraphs (f), (g), (h), (i), and (j)

(l) For airplanes having S/Ns 7013, 7017, 7037, 7046, 7059, 7076, 7105, 7127, 7151, 7157, 7163, 7174, 7179, 7203, 7204, 7228, 7271, 7347, 7362, 7378, 7417 through 7990 inclusive, 8000 through 8076 inclusive, 8082, 8086, 8090 through 8092 inclusive, 8096 and 8097: Installation, in accordance with the Accomplishment Instructions of Bombardier Service Bulletin 601R-30-029, Revision A, dated July 7, 2005, of a complete set of new inboard, center, and outboard piccolo tubes, as identified in paragraphs (l)(1), (l)(2), and (l)(3) of this AD terminates the requirements of paragraphs (f), (g), (h), (i), and (j) of this AD. When these piccolo tubes have been installed, remove the Operating Limitations and Abnormal Procedures, if inserted in accordance with paragraph (g) of this AD, from the AFM.

(1) For the inboard piccolo tube: P/N 601-80032-7 (14432-107) and 601-80032-8 (14432-108).

(2) For the center piccolo tube: P/N 14464-105 and 14464-106.

(3) For the outboard piccolo tube: P/N 14463-109 and 14463-110.

Parts Installation

(m) For airplanes having S/Ns 7013, 7017, 7037, 7046, 7059, 7076, 7105, 7127, 7151, 7157, 7163, 7174, 7179, 7203, 7204, 7228, 7271, 7347, 7362, 7378, 7417 through 7990 inclusive, 8000 through 8076 inclusive, 8082, 8086, 8090 through 8092 inclusive, 8096 and 8097: As of September 7, 2005, no person may install, on any airplane, a piccolo tube having a P/N listed in paragraph 1.A. of Bombardier Service Bulletin 601R-30-029, Revision A, dated July 7, 2005, unless the applicable requirements of paragraphs (f) through (l) of this AD have been accomplished for that piccolo tube before the effective date of this AD or the requirements specified in paragraph (v) of this AD have been accomplished. As of the effective date of this AD, the requirements of paragraph (v) of this AD must be followed.

New Requirements of This AD

New Revision to AFM

(n) For all airplanes: Within 14 days after the effective date of this AD, revise the Operating Limitations and Abnormal Procedures sections of the Canadair Regional Jet AFM, CSP A-012, to include the information in Canadair (Bombardier) TR RJ/155-6, dated September 17, 2008, as specified in that TR. This may be done by inserting a copy of Canadair (Bombardier) TR RJ/155-6 into the AFM. This TR introduces new procedures for operation in icing conditions. After the AFM revision specified in this paragraph has been done, the AFM limitation required by paragraph (g) of this AD must be removed from the AFM.

Note 1: When Canadair (Bombardier) TR RJ/155-6, dated September 17, 2008, has been included in general revisions of the AFM, the general revisions may be inserted in the AFM, provided the relevant information in the general revision is identical to that in Canadair (Bombardier) TR RJ/155-6.

(o) Before further flight after accomplishing paragraph (n) of this AD, operate the airplane according to the limitations and procedures in Canadair (Bombardier) TR RJ/155-6, dated September 17, 2008, except that MMEL entry 30-12-03, which permits the wing anti-ice system to be inoperative with specific provisions, is not affected by this AD.

Records Check

(p) For airplanes having S/Ns 7003 through 7013 inclusive, 7015, 7016, 7018 through 7036 inclusive, 7038 through 7045 inclusive, 7047 through 7058 inclusive, 7060 through 7067 inclusive, 7069 through 7075 inclusive, 7077 through 7104 inclusive, 7106 through 7126 inclusive, 7128 through 7150 inclusive, 7152 through 7156 inclusive, 7158 through 7162 inclusive, 7164 through 7178 inclusive, 7180 through 7202 inclusive, 7204 through 7227 inclusive, 7229 through 7270 inclusive, 7272 through 7346 inclusive, 7348 through 7358 inclusive, 7360, 7361, 7363 through 7377 inclusive, 7379, 7380, 7382 through 7416 inclusive, 8056 through 8076 inclusive, 8082, 8086, 8090 though 8092 inclusive, 8096 and 8097: Within 30 days after the effective date of this AD, review the airplane maintenance records to determine if any anti-ice piccolo ducts or complete leading edge sections have been replaced since May 1, 2000. Doing the review in this paragraph terminates the requirements of paragraphs (f) and (i) of this AD. Doing the action specified in paragraph (w) of this AD terminates the requirements of this paragraph.

(1) If no anti-ice piccolo ducts and no complete leading edge sections have been replaced since May 1, 2000, no further action is required by this paragraph.

(2) If any anti-ice piccolo duct or complete leading edge section has been replaced since May 1, 2000, or if it cannot be conclusively determined that no anti-ice piccolo ducts and no complete leading edge sections have been replaced since May 1, 2000, before further flight, inspect the serial numbers of the replaced ducts. A review of airplane maintenance records is acceptable in lieu of this inspection if the serial number of the duct can be conclusively determined from that review.

(i) If none of the piccolo duct serial numbers matches any of those in Part A, Paragraph 2.A., of the Accomplishment Instructions of Bombardier Alert Service Bulletin A601R-30-032, dated September 18, 2008, no further action is required by this paragraph.

(ii) If any of the piccolo duct serial numbers matches any of those in Part A, Paragraph 2.A., of the Accomplishment Instructions of Bombardier Alert Service Bulletin A601R-30-032, dated September 18, 2008, or if the serial number cannot be determined, do the actions required by paragraph (s) of this AD.

(q) For airplanes having S/Ns 7014, 7017, 7037, 7046, 7059, 7076, 7105, 7127, 7151, 7157, 7163, 7179, 7203, 7228, 7271, 7347, 7359, 7362, 7378, 7381, 7417 through 7990 inclusive, and 8000 through 8055 inclusive, on which Bombardier Service Bulletin 601R-30-029 has been accomplished: Within 30 days after the effective date of this AD, review the airplane maintenance records to determine if any anti-ice piccolo ducts or complete leading edge sections have been replaced since accomplishing Bombardier Service Bulletin 601R-30-029. Doing the action in this paragraph terminates the requirements of paragraphs (f) and (i) of this AD. Doing the action specified in paragraph (w) of this AD terminates the requirements of this paragraph.

(1) If no anti-ice piccolo ducts and no complete leading edge sections have been replaced since May 1, 2000, no further action is required by this paragraph.

(2) If any anti-ice piccolo duct or complete leading edge section has been replaced since May 1, 2000, or if it cannot be conclusively determined that no anti-ice piccolo ducts and no complete leading edge sections have been replaced since May 1, 2000, before further flight, inspect the serial numbers of the replaced ducts. A review of airplane maintenance records is acceptable in lieu of this inspection if the serial number of the duct can be conclusively determined from that review.

(i) If none of the piccolo duct serial numbers matches any of those in Part A, Paragraph 2.A., of the Accomplishment Instructions of Bombardier Alert Service Bulletin A601R-30-032, dated September 18, 2008, no further action is required by this paragraph.

(ii) If any of the piccolo duct serial numbers matches any of those in Part A, Paragraph 2.A., of the Accomplishment Instructions of Bombardier Alert Service Bulletin A601R-30-032, dated September 18, 2008, or if the serial number cannot be determined, do the actions required by paragraph (s) of this AD.

(r) For airplanes having S/Ns 7014, 7017, 7037, 7046, 7059, 7076, 7105, 7127, 7151, 7157, 7163, 7179, 7203, 7228, 7271, 7347, 7359, 7362, 7378, 7381, 7417 through 7990 inclusive, and 8000 through 8055 inclusive, on which Bombardier Service Bulletin 601R-30-029 has not been accomplished: Within 30 days after the effective date of this AD, inspect the serial numbers of the piccolo ducts. A review of airplane maintenance records is acceptable in lieu of this inspection if the serial number of the duct can be conclusively determined from that review. Doing the inspection in this paragraph terminates the requirements of paragraphs (f) and (i) of this AD. Doing the action specified in paragraph (w) of this AD terminates the requirements of this paragraph.

(1) If none of the piccolo duct serial numbers matches any of those in Part A, Paragraph 2.A., of the Accomplishment Instructions of Bombardier Alert Service Bulletin A601R-30-032, dated September 18, 2008, no further action is required by this paragraph.

(2) If any of the piccolo duct serial numbers matches any of those in Part A, Paragraph 2.A., of the Accomplishment Instructions of Bombardier Alert Service Bulletin A601R-30-032, dated September 18, 2008, or if the serial number cannot be determined, do the actions required by paragraph (s) of this AD.

Inspection of the Wing Anti-Ice Piccolo Ducts

(s) For airplanes having a piccolo duct identified in paragraph (p)(2)(ii), (q)(2)(ii), or (r)(2) of this AD: Within 30 days after doing the action specified in paragraph (p), (q), or (r) of this AD, as applicable, do a fluorescent dye penetrant inspection for cracking of the piccolo ducts in accordance with the Accomplishment Instructions of Bombardier Alert Service Bulletin A601R-30-032, dated September 18, 2008. If no cracking is found, repeat the inspection thereafter at intervals not to exceed 2,000 flight hours. Doing the action specified in paragraph (w) of this AD terminates the requirements of this paragraph.

(t) If any cracking is found during any inspection required by paragraph (s) of this AD, before further flight, do the actions specified in paragraph (t)(1), (t)(2), or (t)(3) of this AD, except where Bombardier Alert Service Bulletin A601R-30-032, dated September 18, 2008, specifies to contact Bombardier for information regarding repair, this AD requires repair according to a method approved by either the Manager, New York ACO, or TCCA (or its delegated agent). Doing the action specified in paragraph (w) of this AD terminates the requirements of this paragraph.

(1) Replace the cracked piccolo duct, in accordance with the Accomplishment Instructions of Bombardier Alert Service Bulletin A601R-30-032, dated September 18, 2008, with a new piccolo duct that has the same part number as identified in Part A, Paragraph 2.A., of the Accomplishment Instructions of Bombardier Alert Service Bulletin A601R-30-032, dated September 18, 2008, but that does not have a serial number listed in that paragraph.

(2) Replace the cracked piccolo duct, in accordance with the Accomplishment Instructions of Bombardier Alert Service Bulletin A601R-30-032, dated September 18, 2008, with a new piccolo duct that has a part number identified in the applicable Bombardier illustrated parts catalog but not identified in Part A, Paragraph 2.A., of the Accomplishment Instructions of Bombardier Alert Service Bulletin A601R-30-032, dated September 18, 2008.

(3) Replace the cracked piccolo duct with a piccolo duct that has been repaired in accordance with a method approved by either the Manager, New York ACO, FAA; or TCCA (or its delegated agent).

Repetitive Inspection of the Wing Anti-Ice Piccolo Ducts

(u) For airplanes on which an inspection required by paragraph (h)(1) of this AD has been done, except for airplanes on which the terminating action specified in paragraph (l) of this AD has been done: Within 2,000 flight hours since the last inspection, or 30 days after the effective date of this AD, whichever occurs later, do the actions specified in paragraph (s) of this AD. Doing the inspection required by this paragraph terminates the actions required by paragraph (h)(1) of this AD. Doing the action specified in paragraph (w) of this AD terminates the requirements of this paragraph.

New Parts Installation Paragraph

(v) As of the effective date of this AD, the requirements specified in paragraphs (v)(1) and (v)(2) of this AD must be followed.

(1) For airplanes on which the terminating action specified in paragraph (w) of this AD has not been done: No person may install a piccolo duct having a part number identified in Part A, Paragraph 2.A., of the Accomplishment Instructions of Bombardier Alert Service Bulletin A601R-30-032, dated September 18, 2008, on any airplane, unless the requirements specified in paragraphs (s) and (t) of this AD, as applicable, have been accomplished for that piccolo duct.

(2) For airplanes on which the terminating action specified in paragraph (w) of this AD has been done: No person may install a piccolo duct having a part number identified in Part A, Paragraph 2.A., of the Accomplishment Instructions of Bombardier Alert Service Bulletin A601R-30-032, dated September 18, 2008, on any airplane.

Optional Terminating Action

(w) Replacing all piccolo ducts that have serial numbers identified in Part A, Paragraph 2.A., of the Accomplishment Instructions of Bombardier Alert Service Bulletin A601R-30-032, dated September 18, 2008, with piccolo ducts that do not have serial numbers identified in Part A, Paragraph 2.A., of the Accomplishment Instructions of Bombardier Alert Service Bulletin A601R-30-032, dated September 18, 2008, in accordance with the Accomplishment Instructions of Bombardier Alert Service Bulletin A601R-30-032, dated September 18, 2008, terminates the requirements of paragraphs (f), (h), (i), (p), (q), (r), (s), (t), and (u) of this AD.

Optional Service Information for Certain Requirements of This AD

(x) Actions accomplished according to Bombardier Service Bulletin 601R-30-029, Revision B, dated August 29, 2005; or Bombardier Alert Service Bulletin A601R-30-032, dated September 18, 2008; are considered acceptable for compliance with the corresponding actions specified in paragraphs (h)(1), (j)(1), (j)(2), (j)(3), and (l) of this AD.

Alternative Methods of Compliance (AMOCs)

(y) The Manager, New York ACO, FAA, has the authority to approve AMOCs for this AD, if requested using the procedures found in 14 CFR 39.19. Send information to ATTN: Fabio Buttitta, Aerospace Engineer, New York Aircraft Certification Office, ANE-171, FAA, New York Aircraft Certification Office, 1600 Stewart Avenue, Suite 410, Westbury, New York 11590; telephone (516) 228-7303; fax (516) 794-5531. Before using any approved AMOC on any airplane to which the AMOC applies, notify your appropriate principal inspector (PI) in the FAA Flight Standards District Office (FSDO), or lacking a PI, your local FSDO.

Related Information

(z) Canadian airworthiness directive CF-2008-30, dated October 7, 2008, also addresses the subject of this AD.

Material Incorporated by Reference

(aa) You must use the service information listed in Table 1 of this AD to perform the actions that are required by this AD, as applicable, unless the AD specifies otherwise.

Table 1—Material Incorporated by Reference
Service information | Revision level | Date
Bombardier Alert Service Bulletin A601R-30-032, including Appendix A and Appendix B | Original | September 18, 2008.
Bombardier Service Bulletin 601R-30-029, including Appendix A, dated June 17, 2005, and Appendix B, Revision A, dated July 7, 2005 | A | July 7, 2005.
Canadair (Bombardier) Temporary Revision RJ/155-6 to the Canadair Regional Jet Airplane Flight Manual, CSP A-012 | Original | September 17, 2008.
Canadair Temporary Revision RJ/155 to the Canadair Regional Jet Airplane Flight Manual, CSP A-012 | Original | July 5, 2005.

(1) The Director of the Federal Register approved the incorporation by reference of Bombardier Alert Service Bulletin A601R-30-032, including Appendix A and Appendix B, dated September 18, 2008; and Canadair (Bombardier) Temporary Revision RJ/155-6 to the Canadair Regional Jet Airplane Flight Manual, CSP A-012, dated September 17, 2008; in accordance with 5 U.S.C. 552(a) and 1 CFR part 51.

(2) On September 7, 2005 (70 FR 49164, August 23, 2005), the Director of the Federal Register approved the incorporation by reference of Canadair Temporary Revision RJ/155, dated July 5, 2005, to the Canadair Regional Jet Airplane Flight Manual, CSP A-012; and Bombardier Service Bulletin 601R-30-029, Revision A, dated July 7, 2005, including Appendix A, dated June 17, 2005, and Appendix B, Revision A, dated July 7, 2005.

(3) Contact Bombardier, Inc., Canadair, Aerospace Group, P.O. Box 6087, Station Centre-ville, Montreal, Quebec H3C 3G9, Canada; telephone 514-855-8500; fax 514-855-8501; E-mail thd.crj@aero.bombardier.com; Internet http://www.bombardier.com; for a copy of this service information. You may review copies at the FAA, Transport Airplane Directorate, 1601 Lind Avenue, SW., Renton, Washington; or at the National Archives and Records Administration (NARA). For information on the availability of this material at NARA, call 202-741-6030, or go to http://www.archives.gov/federal_register/code_of_federal_regulations/ibr_locations.html.

Issued in Renton, Washington, on November 4, 2008.
Stephen P. Boyd,
Assistant Manager, Transport Airplane Directorate, Aircraft Certification Service.

[FR Doc. E8-26911 Filed 11-13-08; 8:45 am]

BILLING CODE 4910-13-P